COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add service(s) to the Procurement List that will be furnished by nonprofit agencies employing persons who are blind or have other severe disabilities, and deletes product(s) previously furnished by such agencies.

DATES: Comments must be received on or before: July 28, 2024.

ADDRESSES: Committee for Purchase From People Who Are Blind or Severely Disabled, 355 E Street SW, Suite 325, Washington, DC 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Additions

In accordance with 41 CFR 51-5.3(b), the Committee intends to add this services requirement to the Procurement List as a mandatory purchase only for the Little Rock Air Force Base, AR with the proposed qualified nonprofit agency as the authorized source of supply. Prior to adding the service to the Procurement List, the Committee will consider other pertinent information, including information from Government personnel and relevant comments from interested parties regarding the Committee's intent to geographically limit this services requirement.

The following service(s) are proposed for addition to the Procurement List for production by the nonprofit agencies listed:

Service(s)

Service Type: Mail Service

Mandatory for: Official Mail Center and Postal Service Center, USAF, Little Rock Air Force Base, AR

Designated Source of Supply: VersAbility Resources, Inc. Hampton, VA, Account #0659

Contracting Activity: FA4460 19 CON, Little Rock AFB AR 72099

Deletions

The following product(s) are proposed for deletion from the Procurement List:

Product(s)

NSN(s)—Product Name(s):

7510-01-682-8094—Monthly Planner, Recycled, Dated 2024, 14-month, 6⅞″ x 8¾″

7510-01-682-8104—Professional Planner, Dated 2024, Recycled, Weekly, Black, 8½″ x 11″

7530-01-693-5571—Monthly Desk Planner, Dated 2024, Wire Bound, Non-refillable, Black Cover

7530-01-693-5580—Weekly Desk Planner, Dated 2024, Wire Bound, Non-refillable, Black Cover

7530-01-693-5589—Weekly Planner Book, Dated 2024, 5″ x 8″, Black

7530-01-693-5597—Daily Desk Planner, Dated 2024, Wire bound, Non-refillable, Black Cover

7510-01-682-8099—Wall Calendar, Recycled, Dated 2024, Vertical, 3 Months, 12¼″ x 26″

7510-01-693-5076—Monthly Wall Calendar, Dated 2024, Jan-Dec, 8½″ x 11″

7510-01-693-5081—Wall Calendar, Dated 2024, Wire Bound w/hanger, 15.5″ x 22″

7510-01-693-5097—Wall Calendar, Dated 2024, Wire Bound w/Hanger, 12″ x 17″

7510-01-695-6112—Dated 12-Month 2-Sided Laminated Wall Planner, 24″ x 37″

Authorized Source of Supply: Chicago Lighthouse Industries, Chicago, IL

Contracting Activity: GSA/FAS ADMIN SVCS ACQUISITION BR(2, NEW YORK, NY

NSN(s)—Product Name(s):

7920-00-NIB-0508—WetTask Wiping System—Bucket

7920-00-NIB-0510—WetTask Wiping System—Canister

Authorized Source of Supply: East Texas Lighthouse for the Blind, Tyler, TX

Contracting Activity: STRATEGIC ACQUISITION CENTER, FREDERICKSBURG, VA

NSN(s)—Product Name(s):

7045-01-599-5291—Privacy Filter, 16:9 Aspect Ratio Computer Monitor, 17.3 Widescreen

Authorized Source of Supply: Wiscraft, Inc., Milwaukee, WI

Contracting Activity: STRATEGIC ACQUISITION CENTER, FREDERICKSBURG, VA

NSN(s)—Product Name(s):

7045-01-599-5291—Privacy Filter, 16:9 Aspect Ratio Computer Monitor, 17.3 Widescreen

Authorized Source of Supply: Wiscraft, Inc., Milwaukee, WI

Contracting Activity: GSA/FAS ADMIN SVCS ACQUISITION BR(2, NEW YORK, NY

Michael R. Jurkowski,
Director, Business Operations.

[FR Doc. 2024-14231 Filed 6-27-24; 8:45 am]

BILLING CODE 6353-01-P